FEDERAL TRADE COMMISSION

Granting of Request for Early Termination of the Waiting Period under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—09/04/2001
20012324 | Deutsche Post AG | ING Groep N.V. | BHF (USA) Holdings, Inc.
20012325 | Hudson United Bancorp | Vereniging AEGON | Transamerica Retail Financial Services Corporation.
20012327 | Mr. and Mrs. Moustafa & Samia Nasr | Brooks Automation, Inc. | Brooks Automation, Inc.
20012331 | Clear Channel Communications, Inc. | Mr. Keith Rupert Murdoch | Fox Television Stations, Inc.
20012332 | John Wiley & Sons, Inc. | Patrick J. McGovern | Hungry Minds, Inc.
20012335 | Alleghany Corporation | Capitol Transamerica Corporation | Capitol Transamerica Corporation.
20012336 | Alcoa Inc. | Newco | Newco.
20012339 | BHP Billiton Plc | Newco | Newco.
20012341 | Long Star Technologies, Inc. | Cargill, Incorporated | North Star Steel Company.
20012348 | Charles W. Ergen | StarBand Communications, Inc. | StarBand Communications, Inc.
20012351 | Pacific Mutual Holding Company | Scottish Annuity & Life Holdings, Ltd. | Scottish Annuity & Life Holdings, Ltd.
20012352 | TranSwitch Corporation | Onex Communications Corporation | Onex Communications Corporation.
Transactions Granted Early Termination—09/06/2001
20012333 | Mr. Keith Rupert Murdoch | Clear Channel Communications, Inc. | Clear Channel Broadcasting Licenses, Inc.
Transactions Granted Early Termination—09/07/2001
20004606 | Metso OYJ | Svedala Industri AB | Svedala Industri AB.
20010263 | Chevron Corporation | Texaco Inc. | Texaco Inc.
Transactions Granted Early Termination—09/10/2001
20012353 | Allegiance Telecom, Inc. | Macro Holding, Inc. | Macro Holding, Inc.
20012354 | United Rentals, Inc. | Fluor Corporation | S&R Equipment Co., Inc.
20012356 | Swiss Reinsurance Company | Lincoln National Corporation | The Lincoln National Life Insurance Company.
20012357 | Royal Bank of Canada | Tucker Anthony Sutro | Tucker Anthony Sutro.
20012360 | Keane, Inc. | Metro Information Services, Inc. | Metro Information Services, Inc.
20012362 | Prestige Brands Holdings, Inc. | Procter & Gamble Company, (The) | Procter & Gamble Company, (The).
20012364 | Reed International P.L.C. | Classroom Connect, Inc. | Classroom Connect, Inc.
20012368 | Riverdeep Group plc | Alec E. Gores | TLC Education Properties, LLC.
20012377 | McCain Foods Group Inc. | Robert & Joan Follett | Ancor Food Products, Inc.
20012380 | H.J. Heinz Company | McCain Foods Group Inc. | Anchor Food Products, Inc.
20012389 | The Pokemon Company | Nintendo Co Ltd | Nintendo of America Inc.
Transactions Granted Early Termination—09/13/2001
20012312 | B/E Aerospace, Inc. | Paul and Adrianne Mittentag, a married couple | M&M Aerospace, Inc.
20012350 | Longs Drug Stores Corporation | Albertson's, Inc. | Rx America L.L.C.
20012367 | Grupo IMSA, S.A. de C.V. | LTV Corporation, Debtor-in-Bankruptcy | VP Buildings, Inc., United Panel, Inc.
Transactions Granted Early Termination—09/14/2001
20012349 | ZF Friedrichshafen AG | Siemens Aktiengesellschaft | Mannesmann Sachs AG.
20012365 | Elsevier NV | Classroom Connect, Inc. | Classroom Connect, Inc.
20012374 | Dr. Christoph Blocher | Apax Europe V-A LP | Netstal-Maschinen AG.
20012384 | Carlyle Partners III, L.P. | DMDA, Inc. | DMDA, Inc.
20012385 | Wella AG | Robert R. Taylor | Graham Webb International Limited Partnership.
20012390 | Veeco Instruments Inc. | Paul E. Colombo | Applied Epi, Inc.
20012391 | Paul E. Colombo | Veeco Instruments Inc. | Veeco Instruments Inc.

FOR FURTHER INFORMATION CONTACT: Sandra M. Peay or Parcellena P. Fielding, Contact Representatives, Federal Trade Commission, Premerger Notification Office, Bureau of Competition, Room 303, Washington, DC 20580, (202) 326-3100.

By Direction of the Commission.
Donald S. Clark,
Secretary.

[FR Doc. 01-24120 Filed 9-26-01; 8:45 am]

BILLING CODE 6750-01-M